DEPARTMENT OF THE INTERIOR

Bureau of Reclamation

[FES-12-4]

Final Programmatic Environmental Impact Statement and Integrated Water Resource Management Plan, Yakima River Basin, Water Enhancement Project, Benton, Kittitas, Klickitat, and Yakima Counties, WA

AGENCY: Bureau of Reclamation, Interior.

ACTION: Notice of availability.

SUMMARY: The Bureau of Reclamation (Reclamation), in cooperation with the Washington State Department of Ecology (Ecology), the joint lead agency, is notifying the public that they have prepared a final programmatic environmental impact statement pursuant to the National Environmental Policy Act and have made it available to the public for review.

DATES: The Bureau of Reclamation will not make a decision on the proposed action until at least 30 days after filing of the Final Programmatic Environment Impact Statement (FPEIS) with the Environmental Protection Agency. After the 30-day waiting period, Reclamation may complete a Record of Decision. The Record of Decision will discuss factors and rationale used in making the decision.

ADDRESSES: Requests for copies of the FPEIS should be addressed to Candace McKinley, Environmental Program Manager, Bureau of Reclamation, Columbia-Cascades Area Office, 1917 Marsh Road, Yakima, WA 98901; or by email: yrbwep@usbr.gov. This document is also available on the Bureau of Reclamation's web site at: http://www.usbr.gov/pn/programs/yrbwep/2011integratedplan/index.html.

FOR FURTHER INFORMATION CONTACT: Candace McKinley at (509) 575-5848, ext. 232, or at the above address.

SUPPLEMENTARY INFORMATION: Pursuant to Section 102(2)(c) of the National Environmental Policy Act of 1969 (NEPA), as amended, 42 United States Code (U.S.C.) § 4332, the FPEIS will comply with requirements of the Washington State Environmental Policy Act (SEPA), Chapter 43.21C, Revised Code of Washington (RCW). Reclamation published a Draft PEIS in the Federal Register on November 16, 2011 (76 FR 71070) with a public comment period ending on January 3, 2012. The FPEIS includes written responses to all public comments on the Draft PEIS.

Background

In response to long-standing water resource problems in the basin, Reclamation and Ecology have analyzed the elements of the Integrated Water Resource Management Plan in the FPEIS. The FPEIS addresses impacts that could occur if Reclamation and Ecology implement the comprehensive program of water resource and habitat improvements and management initiatives intended to restore ecological functions in the Yakima River system and to provide more reliable and sustainable water resources for the health of the riverine environment, and for agriculture and municipal and domestic needs.

The proposed water resource management plan includes three major components (Habitat, Systems Modification, and Water Supply) which are comprised of seven elements (listed below). The Habitat Component includes a package of projects and actions intended to improve conditions for fish and the health of the riverine environment. The Habitat Component includes the reservoir fish passage and habitat/watershed protection and enhancement elements. The Systems Modification Component is intended to modify existing facilities and operations in order to improve conditions for fish and to improve water supply. The Systems Modification Component includes the structural and operational changes at existing facilities elements. The third component, Water Supply, is intended to improve water supply for agricultural and municipal needs as well as for fish. It includes the surface water storage, groundwater storage, enhanced water conservation and market reallocation elements.

The plan elements include projects and actions including, but not limited to:

1. Fish Passage (fish passage improvements at Cle Elum, Bumping, Clear Lake, Keechelus, Kachess, and Tieton Dams);

2. Structural/Operational Changes (subordination of power generation at Roza and Chandler Power Plants);

3. Surface Storage (new Wymer Dam and Reservoir, Bumping Reservoir enlargement, Kachess inactive storage);

4. Groundwater Storage (groundwater infiltration prior to storage control);

5. Fish Habitat (mainstem floodplain restoration program);

6. Enhanced Water Conservation (agricultural water and municipal/domestic conservation); and

7. Market-Based Reallocation of Water Resources (institutional improvements to facilitate market-based water transfers).

Public Disclosure

Before including your name, address, phone number, email address, or other personal identifying information in your comment, you should be aware that your entire comment—including your personal identifying information—may be made publicly available at any time. While you can ask us in your comment to withhold your personal identifying information from public review, we cannot guarantee that we will be able to do so.

Public Review Locations

The FPEIS is available for public inspection at the following locations:

• Bureau of Reclamation, Pacific Northwest Regional Office, 1150 N Curtis Road, Boise, ID.

• Bureau of Reclamation, Columbia Cascades Area Office, 1917 Marsh Road, Yakima, WA.

• Washington State Department of Ecology, 15 W. Yakima Avenue, Suite 200, Yakima, WA.

Libraries

• Carpenter Memorial Library, 302 N Pennsylvania Ave, Cle Elum, Washington 98922.

• Ellensburg Public Library, 209 N Ruby St, Ellensburg, Washington 98926.

• Roslyn Public Library, 201 S. First St, Roslyn, Washington 98941.

• Benton City Library, 810 Horne Dr, Benton City, Washington 99320.

• Kennewick Library, 1620 S Union St, Kennewick, Washington 99338.

• Kittitas Public Library, 200 N Pierce St, Kittitas, Washington 98934.

• Mid-Columbia Library, 405 S Dayton St, Kennewick, Washington 99336.

• Pasco Library, 1320 W Hopkins St, Pasco, Washington 99301.

• Prosser Library, 902 7th St, Prosser, Washington 99350.

• Richland Public Library, 955 Northgate Dr, Richland, Washington 99352.

• Sunnyside Public Library, 621 Grant Ave, Sunnyside, Washington 98944.

• Toppenish Library, 1 S Elm St, Toppenish, Washington 98948.

• Wapato Library, 119 E 3rd St, Wapato, Washington 98951.

• Washington State Library, Point Plaza East, 6880 Capitol Blvd. SE., Tumwater, Washington 98504.

• West Richland Library, 3803 W Van Giesen St, Richland, Washington 99353.

• Yakama Nation Library, 100 Spiel-Yi Loop, Toppenish, Washington 98948.

• Yakima Valley Regional Library, 102 N 3rd St, Yakima, Washington 98901.

Dated: February 22, 2012.
Timothy L. Personius,
Acting Regional Director, Pacific Northwest Region.

[FR Doc. 2012-4506 Filed 2-27-12; 8:45 am]

BILLING CODE 4310-MN-P